DEPARTMENT OF COMMERCE

National Institute of Standards and Technology

Selection of Naval Undersea Warfare Center Newport Division as the Designated Institute for Underwater Acoustics Measurements

AGENCY: National Institute of Standards and Technology, Department of Commerce.

ACTION: Notice; request for comments.

SUMMARY: The National Institute of Standards and Technology (NIST), an agency of the United States Department of Commerce, has designated the Naval Undersea Warfare Center (NUWC) Division Newport as the U.S. Designated Institute (DI) for Underwater Acoustics Measurements to meet the needs of the national security of the United States. This designation is in accordance with the Mutual Recognition Arrangement (MRA) of the Comité International des Poids et Mesures (CIPM), to which NIST is a signatory as the National Measurement Institute (NMI) of the United States. Section 6.1 of the MRA allows NIST to designate a laboratory other than itself to participate in the CIPM key comparisons on behalf of its nation and to be responsible for disseminating the national measurement standards relevant to a particular measurand if a substantial and demonstrable scientific need, trade barrier to an industry in the United States, or a national security need is addressed by such designation and such need cannot be addressed by NIST.

DATES: NIST's designation of the Naval Undersea Warfare Center (NUWC) Division Newport as the U.S. Designated Institute for Underwater Acoustics Measurements will expire on March 31, 2024. NIST will consider comments from the public regarding this designation received by that date as part of an annual review of the status and performance of the DI.

ADDRESSES: Comments regarding NIST's designation or any requests for further information may be sent to James Fedchak, Associate Director for Measurement Services, Physical Measurement Laboratory, National Institute of Standards and Technology, by mail to 100 Bureau Drive, Mail Stop 8400, Gaithersburg, Maryland 20899, or by electronic mail to james.fedchak@nist.gov.

FOR FURTHER INFORMATION CONTACT: For further information, please contact James Fedchak, Associate Director for Measurement Services, Physical Measurement Laboratory, National Institute of Standards and Technology, 100 Bureau Drive, Mail Stop 8400, Gaithersburg, Maryland 20899, or by electronic mail to james.fedchak@nist.gov or (301) 975-8962.

SUPPLEMENTARY INFORMATION: Background Information: As the NMI of the United States, NIST is responsible for all measurement standards in the United States. NIST is a signatory to the CIPM MRA. Section 6.1 of the MRA provides for cases where an NMI chooses to nominate a laboratory other than itself to be responsible for the national measurement standards relevant to that particular measurand. Under the provisions of the MRA, NIST may designate a U.S. organization other than itself to be the DI responsible for certain national measurement standards and associated services that are not covered by the activities of NIST in accordance with the terms of the MRA.

The DI is responsible for the following tasks: Maintaining the United States' national measurement standard for a specific measurand; disseminating standards for that measurand to industry, government, and academia in the United States; submitting its quality system for review by the NIST Quality Manager and the NIST Measurement Services Council, or their designees; and maintaining its National Voluntary Laboratory Accreditation Program (NVLAP) accreditation with a scope that covers the intended measurement capability. When it is determined by NIST to be appropriate, the DI is responsible for these additional tasks: Participating, in partnership with NIST, in activities of the MRA; establishing and maintaining calibration and measurement capabilities (CMCs) that address the scope of designation for inclusion in the International Bureau of Weights and Measures (BIPM) Key Comparison Database; and participating in BIPM and Regional Metrology Organization Key Comparisons.

The status and performance of a DI will be reviewed annually by the NMSC (or their designees). NIST will consider comments received in response to this notice as one element of this review. If the DI does not meet the responsibilities as specified above, or if the identified scientific need or trade barrier is determined to no longer exist, NIST may revoke the designation of a DI.

Underwater Acoustics Measurements: NUWC Division Newport provides research, development, test and evaluation, engineering, analysis, and assessment, and fleet support capabilities for submarines, autonomous underwater systems, and offensive and defensive undersea weapon systems, and stewards existing and emerging technologies in support of undersea warfare. NUWC Division Newport is headquartered in Rhode Island, has detachments in West Palm Beach, Florida and Andros Island in the Bahamas, and has facilities in Seneca Lake and Fisher's Island in New York, and Dodge Pond, Connecticut.

The need for a DI for an underwater acoustics measurand was identified by the Director of NIST's Physical Measurement Laboratory as a need for the national security of the United States. This need cannot be addressed by NIST's current activities because NIST does not possess the facilities to perform underwater acoustic measurements. The need for a DI was reviewed and approved by the NMSC and NIST's Associate Director for Laboratory Programs. Based on the foregoing, NIST designated the NUWC Division Newport as the U.S. Designated Institute for Underwater Acoustics Measurements to effectively and efficiently fulfill the need in the United States for underwater acoustic measurements to meet the needs of the national security of the United States.

Authority: 15 U.S.C. 272(b) & (c).

Alicia Chambers,
NIST Executive Secretariat.

[FR Doc. 2021-10394 Filed 5-17-21; 8:45 am]

BILLING CODE 3510-13-P